ENVIRONMENTAL PROTECTION AGENCY

40 CFR Part 98

[EPA-HQ-OAR-2008-0508; FRL-9127-6]

RIN 2060-AQ15

Mandatory Reporting of Greenhouse Gases: Minor Harmonizing Changes to the General Provisions

Correction

In rule document 2010-5695 beginning on page 12451 in the issue of March 16, 2010, on pages 12457 and 12458, in Subpart A, the following tables are being corrected to read as set forth below:

Subpart A [Corrected]

Table A-3 of Subpart A—Source Category List for § 98.2(a)(1)
Source Categories ¹ Applicable in 2010 and Future Years
Electricity generation units that report CO2 mass emissions year round through 40 CFR part 75 (subpart D).
Adipic acid production (subpart E).
Aluminum production (subpart F).
Ammonia manufacturing (subpart G).
Cement production (subpart H).
HCFC-22 production (subpart O).
HFC-23 destruction processes that are not collected with a HCFC-22 production facility and that destroy more than 2.14 metric tons of HFC-23 per year (subpart O).
Lime manufacturing (subpart S).
Nitric acid production (subpart V).
Petrochemical production (subpart X).
Petroleum refineries (subpart Y).
Phosphoric acid production (subpart Z).
Silicon carbide production (subpart BB).
Soda ash production (subpart CC).
Titanium dioxide production (subpart EE).
Municipal solid waste landfills that generate CH4 in amounts equivalent to 25,000 metric tons CO2e or more per year, as determined according to subpart HH of this part.
Manure management systems with combined CH4 amd N2O emissions in amounts equivalent to 25,000 metric tons CO2e or more per year, as determined according to subpart JJ of this part.
Additional Source Categories ¹ Applicable in 2011 and Future Years
(Reserved)
¹ Source categories are defined in each applicable subpart.

Table A-4 of Subpart A—Source Category List for § 98.2(a)(2)
Source Categories ¹ Applicable in 2010 and Future Years
Ferroalloy production (subpart K).
Glass production (subpart N).
Hydrogen production (subpart P).
Iron and steel production (subpart Q).
Lead production (subpart R).
Pulp and paper manufacturing (subpart AA).
Zinc production (subpart GG).
Additional Source Categories ¹ Applicable in 2011 and Future Years
(Reserved)
¹ Source categories are defined in each applicable subpart.

Table A-5 of Subpart A—Supplier Category List for § 98.2(a)(4)
Supplier Categories ¹ Applicable in 2010 and Future Years
Coal-to-liquids suppliers (subpart LL):
(A) All producers of coal-to-liquid products.
(B) Importers of an annual quantity of coal-to-liquid products that is equivalent to 25,000 metric tons CO2e or more.
(C) Exports of an annual quantity of coal-to-liquid products that is equivalent to 25,000 metric tons CO2e or more.
Petroleum product suppliers (subpart MM):
(A) All petroleum refineries that distill crude oil.
(B) Importers of an annual quantity of petroleum products that is equivalent to 25,000 metric tons CO2e or more.
(C) Exporters of an annual quantity of petroleum products that is equivalent to 25,000 metric tons CO2e or more.
Natural gas and natural gas liquids suppliers (subpart NN):
(A) All fractionators.
(B) All local natural gas distribution companies.
Industrial greenhouse gas suppliers (subpart OO):
(A) All producers of industrial greenhouse gases.
(B) Importers of industrial greenhouse gases with annual bulk imports of N2O, fluorinated GHG, and CO2 that in combination are equivalent to 25,000 metric tons CO2e or more.
(C) Exporters of industrial greenhouse gases with annual bulk exports of N2O, fluorinated GHG, and CO2 that in combination are equivalent to 25,000 metric tons CO2e or more.
Carbon dioxide suppliers (subpart PP):
(A) All producers of CO2.
(B) Importers of CO2 with annual bulk imports of N2O, fluorinated GHG, and CO2 that in combination are equivalent to 25,000 metric tons CO2e or more.
(C) Exporters of CO2 with annual bulk exports of N2O, fluorinated GHG, and CO2 that in combination are equivalent to 25,000 metric tons CO2e or more.
Additional Supplier Categories Applicable ¹ in 2011 and Future Years
(Reserved)
¹ Suppliers are defined in each applicable subpart.

[FR Doc. C1-2010-5695 Filed 3-23-10; 8:45 am]

BILLING CODE 1505-01-D